DEPARTMENT OF THE INTERIOR

Bureau of Ocean Energy Management

[OMB Number 1010-0106] [MMAA104000]

Information Collection: Oil Spill Financial Responsibility for Offshore Facilities; Submitted for OMB Review; Comment Request

ACTION: 30-Day notice.

SUMMARY: To comply with the Paperwork Reduction Act of 1995 (PRA), the Bureau of Ocean Energy Management (BOEM) is notifying the public that we have submitted an information collection request (ICR) to the Office of Management and Budget (OMB) for review and approval. The information collection request (ICR) concerns the paperwork requirements for 30 CFR 553, Oil Spill Financial Responsibility for Offshore Facilities, as well as the revised forms. This notice provides the public a second opportunity to comment on the paperwork burden of this collection.

DATES: Submit written comments by December 6, 2013

ADDRESSES: Submit comments on this ICR to the Desk Officer for the Department of the Interior at OMB-OIRA at (202) 395-5806 (fax) or OIRA_submission@omb.eop.gov (email). Please provide a copy of your comments to the BOEM Information Collection Clearance Officer, Arlene Bajusz, Bureau of Ocean Energy Management, 381 Elden Street, HM-3127, Herndon, Virginia 20170 (mail) or arlene.bajusz@boem.gov (email). Please reference ICR 1010-0106 in your comment and include your name and return address.

FOR FURTHER INFORMATION CONTACT: Arlene Bajusz, Office of Policy, Regulations, and Analysis at (703) 787-1025 (phone). You may review the ICR and revised forms online at http://www.reginfo.gov. Follow the instructions to review Department of the Interior collections under review by OMB.

SUPPLEMENTARY INFORMATION:

OMB Control Number: 1010-0106.

Title: 30 CFR 553, Oil Spill Financial Responsibility for Offshore Facilities.

Forms: BOEM-1016 through 1023 and BOEM-1025.

Abstract: This information collection request addresses the regulations at 30 CFR 553, Oil Spill Financial Responsibility (OSFR) for Offshore Facilities, including any supplementary notices to lessees and operators that provide clarification, description, or explanation of these regulations, and forms BOEM-1016 through 1023 and BOEM-1025.

The BOEM uses the information collected under 30 CFR 553 to verify compliance with section 1016 of the Oil Pollution Act, as amended (OPA). The information is necessary to confirm that applicants can pay for cleanup and damages resulting from oil spills and other hydrocarbon discharges that originate from Covered Offshore Facilities (COFs).

We will protect information from respondents considered proprietary under the Freedom of Information Act (5 U.S.C. 552) and its implementing regulations (43 CFR part 2) and under regulations at 30 CFR 550.197, “Data and information to be made available to the public or for limited inspection.” No items of a sensitive nature are collected. Responses are mandatory.

Frequency: On occasion or annual.

Description of Respondents: Holders of leases, permits, and rights of use and easement in the Outer Continental Shelf and in State coastal waters who will appoint designated applicants. Other respondents will be the designated applicants' insurance agents and brokers, bonding companies, and guarantors. Some respondents may also be claimants.

Estimated Reporting and Recordkeeping Hour Burden: The estimated annual hour burden for this collection is 22,132 hours. The following table details the individual components and respective hour burden estimates of this ICR.

Burden Breakdown
Citation 30 CFR 553 | Reporting requirement* | Hour burden | Average number of annual reponses | Annual burden hours
Various sections. | The burdens for all references to submitting evidence of OSFR, as well as required or supporting information, are covered with the forms below. |  |  | 0
Applicability and Amount of OSFR
11(a)(1); 40; 41 | Form BOEM-1016—Designated Applicant Information Certification | 1 | 200 | 200
11(a)(1); 40; 41 | Form BOEM-1017—Appointment of Designated Applicant | 9 | 600 | 5,400
11(a)(2) | Form BOEM-1025—Independent Designated Applicant Information Certification | 1 | 200 | 200
12 | Request for determination of OSFR applicability. Provide required and supporting information | 2 | 5 | 10
15 | Notify BOEM of change in ability to comply | 1 | 1 | 1
15(f) | Provide claimant written explanation of denial | 1 | 15 | 15
Subtotal |  |  | 1,021 | 5,826
Methods for Demonstrating OSFR
21; 22; 23; 24; 26; 27; 30; 40; 41; 43 | Form BOEM-1018—Self-Insurance Information, including renewals | 1 | 50 | 50
| Form BOEM-1023—Financial Guarantee | 1.5 | 25 | 38
29; 40; 41; 43 | Form BOEM-1019—Insurance Certificate | 120 | 120 | 14,400
31; 40; 41; 43 | Form BOEM-1020—Surety Bond | 24 | 4 | 96
32 | Proposal and supporting information for alternative method to evidence OSFR (anticipate no proposals, but regulations provide the opportunity) | 120 | 1 | 120
Subtotal |  |  | 200 | 14,704
Requirements for Submitting OSFR Information
40; 41; 43 | Form BOEM-1021—Covered Offshore Facilities | 6 | 200 | 1,200
40; 41; 42 | Form BOEM-1022—Covered Offshore Facility Changes | 1 | 400 | 400
Subtotal |  |  | 600 | 1,600
Claims for Oil-Spill Removal Costs and Damages
Subpart F | Claims: BOEM is not involved in the claims process. Assessment of burden for claims against the Oil Spill Liability Trust Fund (30 CFR parts 135, 136, 137) falls under the responsibility of the U.S. Coast Guard. |  |  | 0
60(d) | Claimant request for BOEM assistance to determine whether a guarantor may be liable for a claim | 2 | 1 | 2
Subtotal |  |  | 1 | 2
Total Burden |  |  | 1,822 | 22,132
* In the future, BOEM may require specified electronic filing of financial/bonding submissions.

In this renewal, BOEM is splitting the function of some forms and revising others to clarify the responsibilities and financial obligations of responsible parties and applicants, as described in the Outer Continental Shelf Lands Act, and to better align the terminology and liability with the provisions of OPA. These revisions will better protect the Federal Government from potential disputes and litigation by clarifying that the primary relationship is between the responsible party and guarantor and that the designated applicant/operator is intended to function primarily in an administrative capacity.

The revised forms can be viewed online at http://www.reginfo.gov or in the August 6, 2013, Federal Register notice (78 FR 47724).

Form BOEM-1016, Designated Applicant Information Certification. This form remains essentially the same except for updating the choices of forms and clarifying the administrative role of the designated applicant. No change in the 1-hour burden is expected.

Form BOEM-1017, Appointment of Designated Applicant. This form remains essentially the same except for changing the title, clarifying the administrative role of the designated applicant, and adding a column to record depth ranges, when applicable. No change in the 9-hour burden is expected.

Form BOEM-1018, Self-Insurance Information. The original form posed potential confusion because it served two purposes, both to provide evidence of self-insurance (for responsible parties) and as an indemnity (executed by persons other than the responsible party). Thus, the form has been split into two forms (BOEM-1018 and BOEM-1023). BOEM-1018 focuses on self-insurance only and is reworded to more closely align with the requirements of OPA, adding an agreement to update/renew expiring or terminated instruments and a signature section. No change in the 1-hour burden is expected.

Form BOEM-1019, Insurance Certificate. The language and agreements in this form have been reworded for compliance with OPA, to clarify that the insurer is responsible for OPA liabilities of the responsible parties, and to add an agreement to update/renew expiring or terminated instruments. No change in the 120-hour burden is expected.

Form BOEM-1020, Surety Bond. The language and agreements in this form have been reworded for compliance with OPA, to clarify that the Surety is responsible for OPA liabilities of the responsible parties, and to add an agreement to update/renew expiring or terminated instruments. No change in the 24-hour burden is expected.

Forms BOEM-1021, Covered Offshore Facilities, and BOEM-1022, Covered Offshore Facility Changes. These forms remain essentially the same except for rewording of the subtitles to match the other forms and adding a provision for rights-of-way. There is no change in the 1-hour burden for BOEM-1022; however, based on respondent input we are increasing the burden for BOEM-1021 from 3 to 6 hours.

Form BOEM-1023, Financial Guarantee. This new form replaces the indemnity agreement (previously part of BOEM-1018) with a provision that an affiliated firm, such as a corporate parent, may promise to satisfy any claims against the responsible parties. It also adds an agreement to update/renew expiring or terminated instruments and a signature section. The hour burden is estimated as 1.5 hours.

Form BOEM-1025, Independent Designated Applicant Information Certification. This new form allows a designated applicant, who is not also a responsible party, to continue to agree to be jointly and severally liable under OPA until BOEM promulgates regulations that will repeal this requirement. We estimate the burden hour to be 1 hour.

Estimated Reporting and Recordkeeping Non-Hour Cost Burden: We have identified no reporting and recordkeeping non-hour cost burdens for this collection.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “. . . to provide notice . . . and otherwise consult with members of the public and affected agencies concerning each proposed collection of information . . .” Agencies must specifically solicit comments to: (a) Evaluate whether the collection is necessary or useful; (b) evaluate the accuracy of the burden estimates; (c) enhance the quality, usefulness, and clarity of the information to be collected; and (d) minimize the burden on the respondents, including the use of technology.

To comply with the public consultation process, on May 1, 2013, BOEM published a Federal Register notice (78 FR 25472) announcing that we would submit this ICR to OMB for approval. On August 6, 2013, we published a supplementary notice (78 FR 47724) requesting public comment on the revised forms. These notices each provided the required 60-day comment period. We received one comment from the Marine Mammal Commission, which expressed support for BOEM's required information collection as part of a comprehensive Federal/State oil spill response program.

Public Availability of Comments: Before including your address, phone number, email address, or other personal identifying information in your comment, you should be aware that your entire comment—including your personal identifying information—may be made publicly available at any time. While you can ask us in your comment to withhold your personal identifying information from public review, we cannot guarantee that we will be able to do so.

Dated: October 24, 2013.
Deanna Meyer-Pietruszka,
Chief, Office of Policy, Regulations, and Analysis.

[FR Doc. 2013-26591 Filed 11-5-13; 8:45 am]

BILLING CODE 4310-MR-P